ENVIRONMENTAL PROTECTION AGENCY

40 CFR Part 63

[FRL-7009-5]

Approval of Section 112(l) Program of Delegation; Ohio

AGENCY: Environmental Protection Agency (EPA).

ACTION: Proposed rule.

SUMMARY: The Environmental Protection Agency (EPA) is proposing approval of a request for delegation of the Federal air toxics program. The State's mechanism of delegation involves the straight delegation of all existing and future section 112 standards unchanged from the Federal standards. The actual delegation of authority of individual standards, except standards addressed specifically in this action, will occur through a mechanism set forth in a memorandum of agreement (MOA) between the Ohio Environmental Protection Agency (OEPA) and EPA. This request for approval of a mechanism of delegation encompasses all Part 70 and non-Part 70 sources subject to a section 112 standard with the exception of the Coke Oven standard.

In the final rules section of this Federal Register, the EPA is approving the State's request as a direct final rule without prior proposal because EPA views this action as noncontroversial and anticipates no adverse comments. A detailed rationale for approving the State's request is set forth in the direct final rule. The direct final rule will become effective without further notice unless the Agency receives relevant adverse written comment on this action. Should the Agency receive such comment, it will publish a final rule informing the public that the direct final rule will not take effect and such public comment received will be addressed in a subsequent final rule based on this proposed rule. If no adverse written comments are received, the direct final rule will take effect on the date stated in that document and no further activity will be taken on this proposed rule. EPA does not plan to institute a second comment period on this action. Any parties interested in commenting on this action should do so at this time.

DATES: Comments on this proposed rule must be received on or before August 10, 2001.

ADDRESSES: Written comments should be sent to: Pamela Blakley, Chief, Permits and Grants Section, Air Programs Branch (AR-18J), U.S. Environmental Protection Agency, 77 West Jackson Boulevard, Chicago, Illinois 60604.

Copies of the State's submittal and other supporting information used in developing the approval are available for inspection during normal business hours at the following location: EPA Region 5, 77 West Jackson Boulevard, AR-18J, Chicago, Illinois 60604. Please contact Genevieve Damico at (312) 353-4761 to arrange a time if inspection of the submittal is desired.

FOR FURTHER INFORMATION CONTACT: Genevieve Damico, AR-18J, 77 West Jackson Boulevard, Chicago, Illinois 60604, (312) 353-4761, damico.genevieve@epa.gov.

SUPPLEMENTARY INFORMATION: For additional information see the direct final rule published in the final rules section of this Federal Register.

Dated: June 19, 2001.
David A. Ullrich,
Acting Regional Administrator, Region 5.

[FR Doc. 01-17073 Filed 7-10-01; 8:45 am]

BILLING CODE 6560-50-P